DEPARTMENT OF HOMELAND SECURITY

Coast Guard

[Docket No. USCG-2013-0802]

Merchant Marine Personnel Advisory Committee; Vacancies

AGENCY: Coast Guard, DHS.

ACTION: Request for applications.

SUMMARY: The Coast Guard seeks applications for membership on the Merchant Marine Personnel Advisory Committee (MERPAC). This Committee advises the Secretary of the Department of Homeland Security on matters related to personnel in the U.S. merchant marine, including but not limited to training, qualifications, certification, documentation, and fitness standards.

DATES: Applicants should submit a cover letter and resume in time to reach the Alternate Designated Federal Officer (ADFO) on or before November 4, 2013.

ADDRESSES: Applicants should send their cover letter and resume to the following address: Commandant (CG-OES-1), ATTN MERPAC, US Coast Guard Stop 7509, 2703 Martin Luther King Jr Ave SE., Washington, DC 20593-7509; or by faxing (202) 372-1926; or by emailing to davis.j.breyer@uscg.mil. This notice is available in our online docket, USCG-2013-0802, at http://www.regulations.gov.

FOR FURTHER INFORMATION CONTACT: Davis J. Breyer, ADFO of MERPAC; telephone 202-372-1445 or email at davis.j.breyer@uscg.mil.

SUPPLEMENTARY INFORMATION: MERPAC is an advisory committee established under the Secretary's authority in section 871 of The Homeland Security Act of 2002, Title 6, United States Code, section 451. It was established in accordance with and operates under the provisions of the Federal Advisory Committee Act (FACA) (Title 5, United States Code, Appendix). MERPAC advises the Secretary of the Department of Homeland Security on matters relating to personnel in the U.S. merchant marine, including but not limited to training, qualifications, certification, documentation, and fitness standards. The Committee will advise, consult with, and make recommendations reflecting its independent judgment to the Secretary.

MERPAC is expected to meet approximately twice a year as called for by its charter, once at or near Coast Guard Headquarters, Washington, DC, and once at a location outside of Washington. It may also meet for extraordinary purposes. Its subcommittees and working groups may also meet to consider specific tasks as required.

We will consider applications for six positions that expire or become vacant on June 1, 2014. To be eligible, you should have experience in one or more of the following areas of expertise: Two positions for marine educators representing the viewpoint of maritime training institutions other than State or Federal Maritime Academies; one position for a member who represents the viewpoint of shipping companies employed in ship operation management; one position for an engineering officer who is licensed as a Chief Engineer any horsepower; one position for a Pilot who represents the viewpoint of merchant marine pilots; and one position for an unlicensed seaman who represents the viewpoint of Able Bodied Seamen.

Registered lobbyists are not eligible to serve on federal advisory committees. Registered lobbyists are lobbyists required to comply with provisions contained in the Lobbying Disclosure Act of 1995 (Pub. L. 104-65 as amended).

Each MERPAC committee member serves a term of office of up to three years. Members may be considered to serve consecutive terms. All members serve without compensation from the Federal Government; however, upon request, they do receive travel reimbursement and per diem.

The Department of Homeland Security (DHS) does not discriminate in employment on the basis of race, color, religion, sex, national origin, political affiliation, sexual orientation, gender identity, marital status, disability and genetic information, age, membership in an employee organization, or any other non-merit factor. DHS strives to achieve a widely diverse candidate pool for all of its recruitment actions.

If you are interested in applying to become a member of the Committee, send your cover letter and resume to Davis J. Breyer, ADFO of MERPAC by mail, fax, or email according to the instructions in the ADDRESSES section by the deadline in the DATES section of this notice. Indicate the position you wish to fill and specify your area of expertise, knowledge, and experience that qualifies you to serve on MERPAC. Note that during the vetting process, applicants may be asked to provide date of birth and social security number.

To visit our online docket, go to http://www.regulations.gov, enter the docket number for this notice (USCG-2013-0802) in the Search box, and click “Search”. Please do not post your resume on this site.

Dated: August 27, 2013.
J.G. Lantz,
Director of Commercial Regulations and Standards.

[FR Doc. 2013-21291 Filed 8-30-13; 8:45 am]

BILLING CODE 9110-04-P